Proclamation 9038 of October 10, 2013

General Pulaski Memorial Day, 2013

By the President of the United States of America

A Proclamation

Today, we honor the memory of Brigadier General Casimir Pulaski, the Polish-born hero of the American Revolutionary War. General Pulaski's devotion to liberty knew no boundaries, and his bravery on the battlefield helped secure our independence. He sacrificed his life in defense of our freedom, and each year on October 11—the anniversary of his death—we honor his sacrifice and service and reflect on the contributions made by so many Polish-Americans throughout our Nation's history.

A skilled cavalryman even as a youth, Casimir Pulaski spent years defending his native Poland from foreign domination. Unable to win Polish sovereignty, Pulaski found a kindred cause in the fledgling American Nation. Encouraged by Benjamin Franklin, he set sail across the Atlantic in 1777 to join the Revolutionary forces. “I could not submit to stoop before the sovereigns of Europe,” he later wrote to Congress, “So I came to hazard all for the freedom of America.”

Casimir Pulaski quickly distinguished himself at the Battle of Brandywine, where his courageous charge covered General George Washington's retreat, saving Washington's life. The Continental Congress promoted him to Brigadier General, and for his command on horseback, he became known as the “Father of the American Cavalry.” Pulaski went on to form an independent cavalry legion, comprised of men from across Europe and America. While leading this unit, General Pulaski was mortally wounded. He did not live to see the Revolution's end, but he died with hope that our Nation would be free.

On General Pulaski Memorial Day, we celebrate the rights and freedoms Pulaski fought for, and we honor the generations of Polish-Americans who have contributed to our society and defended our Nation since its founding. We also reflect on the steadfast, enduring friendship between the United States and Poland, which have long shared the ideals of freedom and democracy. Through this alliance, and our proud Polish heritage, Casimir Pulaski's legacy lives on.

NOW, THEREFORE, I, BARACK OBAMA, President of the United States of America, by virtue of the authority vested in me by the Constitution and the laws of the United States, do hereby proclaim October 11, 2013, as General Pulaski Memorial Day. I encourage all Americans to commemorate this occasion with appropriate programs and activities paying tribute to Casimir Pulaski and honoring all those who defend the freedom of our Nation.

IN WITNESS WHEREOF, I have hereunto set my hand this tenth day of October, in the year of our Lord two thousand thirteen, and of the Independence of the United States of America the two hundred and thirty-eighth.

[FR Doc. 2013-24502

Filed 10-15-13; 8:45 am]

Billing code 3295-F4